ENVIRONMENTAL PROTECTION AGENCY

40 CFR Part 81

[EPA-R10-OAR-2008-0391; FRL-9180-2]

Determination of Attainment for PM-10; Fort Hall PM-10 Nonattainment Area, Idaho

AGENCY: Environmental Protection Agency (EPA).

ACTION: Final rule.

SUMMARY: EPA is finalizing its determination that the Fort Hall PM-10 nonattainment area on the Fort Hall Indian Reservation in Idaho has attained the National Ambient Air Quality Standard for particulate matter with an aerodynamic diameter of less than or equal to 10 microns (PM-10) under the Clean Air Act. EPA's final determination that the Fort Hall PM-10 nonattainment area has att ained the 24-hour PM-10 National Ambient Air Quality Standard is based on EPA's review of complete, quality-assured air quality data for the three-year period ending December 31, 2009. Currently available preliminary data for 2010 indicate that the area continues to attain the standard.

EPA's determination of attainment is not equivalent to a redesignation to attainment under Clean Air Act section 107(d)(3). The Fort Hall PM-10 nonattainment area's designation for PM-10 will remain moderate nonattainment until such time as the area is redesignated to attainment as provided in Clean Air Act section 107(d)(3).

DATES: This action is effective on August 27, 2010.

ADDRESSES: Copies of the information supporting this action are available for inspection at EPA Region 10, Office of Air, Waste, and Toxics (AWT-107), 1200 Sixth Avenue, Suite 900, Seattle, Washington 98101.

FOR FURTHER INFORMATION CONTACT: Donna Deneen, EPA Region 10, Office of Air, Waste, and Toxics (AWT-107), 1200 Sixth Avenue, Seattle, Washington 98101, or at (206) 553-6706.

SUPPLEMENTARY INFORMATION: Throughout this document wherever “we”, “us” or “our” are used, we mean EPA. Information is organized as follows:

Table of Contents

I. What is the background for this action?

II. What comments did we receive on the proposed action?

III. What is our final action?

IV. Statutory and Executive Order Reviews

I. What is the background for this action?

On May 13, 2010, EPA proposed to determine that the Fort Hall PM-10 nonattainment area on the Fort Hall Indian Reservation in Idaho has attained the 24-hour PM-10 National Ambient Air Quality Standard (NAAQS) under the Clean Air Act. 75 FR 26898. We proposed this determination of attainment based upon three years of complete, quality-assured ambient air monitoring data that showed the area monitored attainment of the PM-10 NAAQS for the 2007-2009 monitoring period. Preliminary data available for 2010 indicate that the area continues to attain the standard and show no exceedances of the standard in 2010. Additional background and our rationale for this determination can be found in the proposed rule.

II. What comments did we receive on the proposed action?

We received one comment letter on the proposed action, which supported our proposed action.

III. What is our final action?

We are finalizing our determination that the Fort Hall PM-10 nonattainment area on the Fort Hall Indian Reservation in Idaho has attained the 24-hour PM-10 standard, based on complete, quality-assured air monitoring data for 2007-2009, and currently available preliminary data for 2010. This determination of attainment is not a redesignation to attainment under CAA section 107(d)(3). The designation status in 40 CFR part 81 for the Fort Hall PM-10 nonattainment area will remain moderate nonattainment until such time as the area is redesignated to attainment as provided in CAA section 107(d)(3). If in the future EPA determines, after notice- and- comment rulemaking, that the area is no longer attaining the PM-10 NAAQS, EPA will publish such determination in the Federal Register.

IV. Statutory and Executive Order Reviews

This action merely makes a determination of attainment based upon air quality and does not impose additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the rule merely makes a required determination based on air quality data and neither imposes substantial direct compliance costs on tribal governments, nor preempts tribal law. Therefore, the requirements of section 5(b) and 5(c) of the Executive Order do not apply to this rule. Consistent with EPA policy, EPA nonetheless provided a consultation opportunity to the Shoshone-Bannock Tribes in a letter to the Chairman of the Fort Hall Business Council, dated January 25, 2010, offering the Tribes the opportunity to consult on this determination and have meaningful and timely input into the proposed decision. EPA received no request from the Tribes for consultation on this determination.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rules in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 27, 2010. Filing a petition for reconsideration by the Administrator of this final action does not affect the finality of this action for the purposes of judicial review nor does it extend the time within which a petition for judicial review may be filed, and shall not postpone the effectiveness of such rule or action. This action may not be challenged later in proceedings to enforce its requirements. (See section 307(b)(2)).

List of Subjects in 40 CFR Part 81

Environmental protection, Air pollution control, Intergovernmental relations, Particulate matter, Reporting and recordkeeping requirements.

Dated: July 15, 2010.
Michael A. Bussell,
Acting Regional Administrator, Region 10.

[FR Doc. 2010-18564 Filed 7-27-10; 8:45 am]

BILLING CODE 6560-50-P